DEPARTMENT OF HEALTH AND HUMAN SERVICES

Administration for Children and Families

[CFDA Number: 93.576]

Announcement of the Award of an Urgent Single-Source Grant to the Center for Survivors of Torture in Dallas, TX

AGENCY: Office of Refugee Resettlement, Administration for Children and Families, Department of Health and Human Services.

ACTION: Announcement of the award of an urgent single-source grant to the Center for Survivors of Torture to provide mental health services for refugees.

SUMMARY: The Administration for Children and Families (ACF), Office of Refugee Resettlement (ORR) announces the award of an urgent single-source grant in the amount of $250,000 to the Center for Survivors of Torture (CST) in Dallas, TX to ensure incoming refugee populations in Texas have access to mental health services.

DATES: The project period for the award is February 1, 2013 through January 31, 2014.

FOR FURTHER INFORMATION CONTACT: Kenneth Tota, Deputy Director, Office of Refugee Resettlement, 901 D Street SW., Washington, DC 20047. Telephone: 202-401-4858. Email: kenneth.tota@acf.hhs.gov.

SUPPLEMENTARY INFORMATION: Approximately 45,000 individual refugees reside in the areas covered by the Center for Survivors of Torture. Texas and the surrounding region have a demonstrated history of being a top resettlement location with one of the highest concentrations of refugees in the United States. In the past few years, the Office of Refugee Resettlement (ORR) has seen an increasing need for mental health services associated with the three primary refugee populations from Iraq, Burma and Bhutan who have suffered extreme trauma and torture due to war and genocide in those countries. Refugees from Bhutan have specifically demonstrated a high incidence of suicide upon arrival to the U.S. ORR has been working closely with the Centers for Disease Control (CDC) to assess this situation. The CDC recently published a study recommending enhanced mental health services for incoming refugees from Bhutan.

This fiscal year the program is seeing a significant increase in resettlement of refugees from the Democratic Republic of Congo. The United Nations High Commissioner for Refugees (UNHCR) has determined this group is particularly at risk due to decades of extreme violence in the Democratic Republic of Congo and recent arrivals have shown a compelling need for mental health services upon arrival. Furthermore, CST is the only accredited mental health care provider of specialized refugee mental health treatment services in Texas and the surrounding area.

CST services are critical to meeting refugee mental health needs by providing services such as an initial assessment, counseling to: children, adolescents, adults, couples, and families. Additionally, CST provides group therapy, psychoeducational groups, testing for mental health conditions, and medication management. In addition to these direct services, CST also provides training to other agencies in the area to include schools, health clinics, and social services agencies on refugee mental health issues.

Due to the high number of refugees being resettled in this region, with no other demonstrated provider of expert mental health services to this population, this grant is urgent and critical to those in need of such services. According to the Department of State, Texas is projected to receive the highest number of refugees admitted to the U.S. in FY13. Through this grant ORR will ensure there is no disruption in much needed mental health services to these particularly at risk populations. This urgent grant will support the provision of these much needed mental health services to ensure these refugees are afforded a successful path to self-sufficiency.

Statutory Authority: Section 412 (c)(1)(A)(iii) of the Immigration and Nationality Act, as amended and the Refugee Assistance Extension Act of 1986, Pub. L. 99-605 (8 U.S.C. 1101).

Eskinder Negash,
Director, Office of Refugee Resettlement.

[FR Doc. 2013-06517 Filed 3-20-13; 8:45 am]

BILLING CODE 4184-01-P